DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, and USACE that are final within the meaning of 23 U.S.C. 139(l)(1). The actions relate to a proposed highway project at the Genesee Avenue Interchange on Interstate 5 (I-5) in the City and County of San Diego, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 14, 2012. If the Federal law that authorizes judicial review of a claim provides a time period of less than 180 days for filing such claim, then that shorter time period still applies.

FOR FURTHER INFORMATION CONTACT: Bruce L. April, Deputy District Director—Environmental, Caltrans District 11, 4050 Taylor Street, MS 242, San Diego, CA 92110. Regular Office Hours: 8 am to 5 pm. Telephone: (619) 688-0100 Email: Bruce_April@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California: The I-5/Genesee Avenue Interchange (IC) Reconstruction Project. This project would include replacement of the Genesee Avenue Overcrossing (OC) with a new OC that would be wider to accommodate additional lanes to relieve a “bottleneck” on Genesee and to improve pedestrian and bicycle access, and would be longer and higher to accommodate possible future widening of I-5; widening of IC ramps; widening of ramps at Sorrento Valley Road (the next IC to north); construction of auxiliary lanes; replacement of Voigt Drive OC (the next OC to south); realignment of a portion of nearby Gilman Drive; installation of new ramp meters; and, construction of a bicycle path along I-5. The project is located in the City and County of San Diego and project length along I-5 is a total of approximately three (3) kilometers [two (2) miles]. The actions by the Federal agencies, and the laws under which such actions were taken, are described in the Environmental Assessment (EA) with Finding of No Significant Impact (FONSI) for the project, approved on June 29, 2011, and in other documents in the FHWA project records. The EA, FONSI, and other project records are available by contacting Caltrans at the address provided above. The Caltrans EA and FONSI can be viewed and downloaded from the project web site at http://www.dot.ca.gov/dist11/envir.htm.

Pending Federal actions include:

1. Section 401 Water Quality Certification from the San Diego Regional Water Quality Control Board (RWQCB), under Section 401 of the Clean Water Act.

2. Section 404 Permit pursuant to the Memorandum of Understanding among FHWA; Caltrans; U.S. Army, Corps of Engineers (USACE); U.S. Fish and Wildlife Service (USFWS) and the National Marine Fisheries Service for the National Environmental Policy Act (NEPA) and the Clean Water Act, Section 404 Integration Process for Federal Aid Surface Transportation Projects in California (NEPA/404 MOU).

This notice applies to all Federal agency decisions as of the issuance date of this notice and all laws under which such actions were taken, including but not limited to:

1. Council on Environmental Quality Regulations

2. National Environmental Policy Act of 1969, as amended, 42 U.S.C. 4321 et seq.

3. Federal-Aid Highway Act of 1970, 23 U.S.C 109

4. Safe, Accountable, Flexible, Efficient Transportation Equity Act: A Legacy for Users (SAFETEA-LU), Public Law 109-59

5. Clean Air Act Amendments of 1990 (CAAA)

6. Clean Water Act of 1977 and 1987

7. Federal Water Pollution Control Act of 1972 (see Clean Water Act of 1977 & 1987)

8. Federal Land Policy and Management Act of 1976 (Paleontological Resources)

9. Noise Control Act of 1972

10. Safe Drinking Water Act of 1944, as amended

11. Endangered Species Act of 1973

12. Executive Order 11990, Protection of Wetlands

13. Executive Order 13112, Invasive Species

14. Executive Order 13186, Migratory Birds

15. Fish and Wildlife Coordination Act of 1934, as amended

16. Migratory Bird Treaty Act

17. Water Bank Act Wetlands Mitigation Banks, ISTEA 1991, Sections 1006-1007

18. Wildflowers, Surface Transportation and Uniform Relocation Act of 1987 Section 130

19. Coastal Zone Management Act of 1972

20. Coastal Zone Management Act Reauthorization Amendments of 1990

21. Executive Order 11988, Floodplain Management

22. Department of Transportation (DOT) Executive Order 5650.2—Floodplain Management and Protection (April 23, 1979)

23. Rivers and Harbors Appropriation Act of 1899, Sections 9 and 10

24. Title VI of the Civil Rights Act of 1964, as amended

25. Act for the Preservation of American Antiquities (1906)

26. Archaeological and Historical Preservation Act of 1974

27. Archeological Resources Protection Act of 1979

28. National Historic Preservation Act of 1966, as amended (Section 106)

29. Native American Graves Protection and Repatriation Act of 1990

30. 23 CFR 771: Environmental Impact and Related Procedures

31. NEPA/404 Integration MOU (2006)

32. Director's Title VI Statement

(Catalog of Federal Domestic Assistance Program Number 20.205, Highway Planning and Construction. The regulations implementing Executive Order 12372 regarding intergovernmental consultation on Federal programs and activities apply to this program.)

Authority: 23 U.S.C. 139(l)(1).

Issued on: July 12, 2011.
Manuel E. Sánchez,
Senior Transportation Engineer/Border Engineer, Federal Highway Administration, San Diego, California.

[FR Doc. 2011-17964 Filed 7-15-11; 8:45 am]

BILLING CODE 4910-RY-P